DEPARTMENT OF COMMERCE

National Oceanic and Atmospheric Administration

[RTID 0648-XD852]

North Pacific Fishery Management Council; Public Meeting

AGENCY: National Marine Fisheries Service (NMFS), National Oceanic and Atmospheric Administration (NOAA), Commerce.

ACTION: Notice of web conferences.

SUMMARY: The North Pacific Fishery Management Council (Council) is holding three pre-workshop discussion meetings in preparation for the Climate Scenario Workshop.

DATES: The meetings will be held on Wednesday, April 24, 2024, Tuesday, April 30, 2024, and on Tuesday, May 14, 2024, from 1 p.m. to 2 p.m., Alaska Time.

ADDRESSES: The meetings will be web conferences. Join online through the link at https://meetings.npfmc.org/Meeting/Details/3042.

Council address: North Pacific Fishery Management Council, 1007 W 3rd Ave., Suite 400, Anchorage, AK 99501-2252; telephone: (907) 271-2809. Instructions for attending the meeting are given under SUPPLEMENTARY INFORMATION, below.

FOR FURTHER INFORMATION CONTACT: Katie Latanich, Council staff; phone: (907) 271-2809 and email: katie.latanich@noaa.gov. For technical support, please contact our administrative staff; email: npfmc.admin@noaa.gov.

SUPPLEMENTARY INFORMATION:

Agenda

Wednesday, April 24, 2024

This session will review the anticipated climate change impacts to the Bering Sea, Aleutian Islands, and Gulf of Alaska, followed by a discussion of the challenges involved in planning for climate change effects that are likely to become more frequent and impactful. The agenda is subject to change, and the latest version will be posted at https://meetings.npfmc.org/Meeting/Details/3042 prior to the meeting, along with meeting materials.

Tuesday, April 30, 2024

This session will explore the meaning of “climate readiness” through recent work including the Council's Climate Readiness Synthesis Report, and community climate adaptation planning efforts, followed by a discussion of different perspectives on climate readiness. The agenda is subject to change, and the latest version will be posted at https://meetings.npfmc.org/Meeting/Details/3042 prior to the meeting, along with meeting materials.

Tuesday, May 14, 2024

This session will provide an introduction to climate scenario planning and the scenarios that will be discussed at the NPFMC Climate Scenarios Workshop. This information will also be provided as briefing material and discussed at the workshop. The agenda is subject to change, and the latest version will be posted at https://meetings.npfmc.org/Meeting/Details/3042 prior to the meeting, along with meeting materials.

Connection Information

You can attend the meeting online using a computer, tablet, or smart phone; or by phone only. Connection information will be posted online at: https://meetings.npfmc.org/Meeting/Details/3042.

Public Comment

Public comment letters will be accepted and should be submitted electronically to https://meetings.npfmc.org/Meeting/Details/3042.

Authority: 16 U.S.C. 1801 et seq.

Dated: April 1, 2024.
Rey Israel Marquez,
Acting Deputy Director, Office of Sustainable Fisheries, National Marine Fisheries Service.

[FR Doc. 2024-07187 Filed 4-3-24; 8:45 am]

BILLING CODE 3510-22-P